DEPARTMENT OF HEALTH AND HUMAN SERVICES

Food and Drug Administration

[Docket No. 98F-1022]

COPA Distributors, Inc.; Withdrawal of Color Additive Petition

AGENCY: Food and Drug Administration, HHS.

ACTION: Notice.

SUMMARY: The Food and Drug Administration (FDA) is announcing the withdrawal, without prejudice to a future filing, of a color additive petition (CAP 8C0263) proposing that the color additive regulations be amended to provide for the safe use of pyrogallol and ferrous sulfate as a color additive in hair dyes.

FOR FURTHER INFORMATION CONTACT: James C. Wallwork, Center for Food Safety and Applied Nutrition (HFS-215), Food and Drug Administration, 200 C St. SW., Washington, DC 20204, 202-418-3078.

SUPPLEMENTARY INFORMATION: In a notice published in theFederal Register of December 8, 1998 (63 FR 67695), FDA announced that a color additive petition (CAP 8C0263) had been filed by COPA Distributors, Inc., c/o Research It!, Inc., 116 Huckleberry Lane, Henderson, NV 89014. The petition proposed to amend the color additive regulations in Part 73—Listing of Color Additives Exempt From Certification (21 CFR part 73) to provide for the safe use of pyrogallol and ferrous sulfate as a color additive in hair dyes. COPA Distributors, Inc., has now withdrawn the petition without prejudice to a future filing (21 CFR 71.6(c)(2)).

Dated: June 29, 2000.
Alan M. Rulis,
Director, Office of Premarket Approval, Center for Food Safety and Applied Nutrition.

[FR Doc. 00-19175 Filed 7-28-00; 8:45 am]

BILLING CODE 4160-01-F